NUCLEAR REGULATORY COMMISSION

[Docket Nos.: 52-014 and 52-015]

Tennessee Valley Authority; Bellefonte Nuclear Plant, Units 3 and 4; Notice of Intent To Prepare an Environmental Impact Statement and Conduct Scoping Process

The Tennessee Valley Authority (TVA) has submitted an application for combined licenses (COLs) to build units 3 and 4 at its Bellefonte Nuclear Plant (Bellefonte) site, located on approximately 1600 acres on a peninsula from Tennessee River mile 390 to river mile 393 in Jackson County, Alabama, on the western shore of Guntersville Reservoir, approximately seven miles northeast of Scottsboro, Alabama. The application for the COLs was submitted by TVA by letter dated October 30, 2007, pursuant to Title 10 of the Code of Federal Regulations (10 CFR) part 52. A notice of receipt of application, including the environmental report (ER), was published in the Federal Register on November 27, 2007 (72 FR 66200). A notice of acceptance for docketing of the application for the COL for TVA was published in the Federal Register on January 28, 2008 (73 FR 4923). A notice of hearing and opportunity to petition for leave to intervene was published in the Federal Register on February 8, 2008 (73 FR 7611-7613). The purpose of this notice is to inform the public that the U.S. Nuclear Regulatory Commission (NRC) will be preparing an environmental impact statement (EIS) in support of the review of the application for the COL and to provide the public with an opportunity to participate in the environmental scoping process as defined in 10 CFR 51.29. In addition, as outlined in 36 CFR 800.8, “Coordination with the National Environmental Policy Act (NEPA),” the NRC plans to coordinate compliance with Section 106 of the National Historic Preservation Act (NHPA), with steps taken to meet the requirements of the National Environmental Policy Act (NEPA) of 1969, as amended. Pursuant to 36 CFR 800.8(c), “Coordination with the National Environmental Policy Act (NEPA) of 1969, as amended, the NRC staff plans to coordinate compliance with Section 106 of the National Historic Preservation Act (NHPA) in lieu of the procedures set forth in 36 CFR 800.3 through 800.6.

In accordance with 10 CFR 51.45 and 51.50, TVA submitted the ER as part of the application. The ER was prepared pursuant to 10 CFR parts 51 and 52 and is available for public inspection at the NRC Public Document Room (PDR) located at One White Flint North, 11555 Rockville Pike (first floor), Rockville, Maryland 20852, or from the Publicly Available Records component of NRC's Agency-wide Documents Access and Management System (ADAMS). ADAMS is accessible at http://www.nrc.gov/reading-rm/adams.html, which provides access through the NRC's Electronic Reading Room link. Persons who do not have access to ADAMS or who encounter problems in accessing the documents located in ADAMS should contact the NRC's PDR Reference staff at 1-800-397-4209/301-415-4737 or by e-mail to pdr@nrc.gov. The application may also be viewed on the Internet at http://www.nrc.gov/reactors/new-licensing/col/bellefonte.html. In addition, the Scottsboro Public Library, 1002 South Broad Street, Scottsboro, AL 35768 has agreed to make the ER available for public inspection.

The following key reference documents related to the application and the NRC staff's review processes are available through the NRC's Web site at http://www.nrc.gov:

a. 10 CFR part 51, Environmental Protection Regulations for Domestic Licensing and Related Regulatory Functions;

b. 10 CFR part 52, Licenses, Certifications, and Approvals for Nuclear Power Plants;

c. 10 CFR part 100, Reactor Site Criteria;

d. NUREG-1555, Standard Review Plans for Environmental Reviews for Nuclear Power Plants;

e. NUREG/BR-0298, Brochure on Nuclear Power Plant Licensing Process;

f. Regulatory Guide 4.2, Preparation of Environmental Reports for Nuclear Power Stations;

g. Regulatory Guide 4.7, General Site Suitability Criteria for Nuclear Power Stations; and

h. Fact Sheet on Nuclear Power Plant Licensing Process.

i. Regulatory 1.206, Combined License Applications for Nuclear Power Plants, and

j. NRR Office Instruction LIC-203, Procedural Guidance for Preparing Environmental Assessments and Considering Environmental Issues.

The regulations, NUREG-series documents, regulatory guides, and fact sheet can be found under Document Collections in the Electronic Reading Room on the NRC Web page.

This notice advises the public that the NRC intends to gather the information necessary to prepare an EIS in support of the review of the application for COLs at the Bellefonte site. Possible alternatives to the proposed action (issuance of the COLs for the Bellefonte site) include no action, reasonable alternative energy sources, and alternate sites. The NRC is required by 10 CFR 52.18 to prepare an EIS in connection with the issuance of COLs. This notice is being published in accordance with NEPA and the NRC's regulations found in 10 CFR part 51.

The NRC will first conduct a scoping process for the COL and, as soon as practicable thereafter, will prepare a draft EIS for public comment. Participation in this scoping process by members of the public, local, State, Tribal, and Federal government agencies is encouraged. The scoping process for the draft EIS will be used to accomplish the following:

a. Define the proposed action that is to be the subject of the EIS;

b. Determine the scope of the EIS and identify the significant issues to be analyzed in depth;

c. Identify and eliminate from detailed study those issues that are peripheral or that are not significant.

d. Identify any environmental assessments and other EISs that are being or will be prepared that are related to but are not part of the scope of the EIS being considered;

e. Identify other environmental review and consultation requirements related to the proposed action;

f. Identify parties consulting with the NRC under the NHPA, as set forth in 36 CFR 800.8 (c) (1) (i);

g. Indicate the relationship between the timing of the preparation of the environmental analyses and the Commission's tentative planning and decision-making schedule;

h. Identify any cooperating agencies and, as appropriate, allocate assignments for preparation and schedules for completing the EIS to the NRC and any cooperating agencies; and

i. Describe how the EIS will be prepared, including any contractor assistance to be used.

The NRC invites the following entities to participate in the scoping process:

a. The applicant;

b. Any Federal agency that has jurisdiction by law or special expertise with respect to any environmental impact involved or that is authorized to develop and enforce relevant environmental standards;

c. Affected State and local government agencies, including those authorized to develop and enforce relevant environmental standards including the State Historic Preservation Officer;

d. Any affected Indian tribe including the Tribal Historic Preservation Officer;

e. The Advisory Council on Historic Preservation;

f. Any person who requests or has requested an opportunity to participate in the scoping process; and

g. Any person who intends to petition for leave to intervene.

In accordance with 10 CFR 51.26, the scoping process for an EIS may include a public scoping meeting to help identify significant issues related to a proposed activity and to determine the scope of issues to be addressed in an EIS. The NRC will hold a public scoping meeting for the EIS regarding TVA's COL application. The scoping meeting will be held at the Scottsboro Goosepond Civic Center, 1165 Ed Hembree Drive, Scottsboro, AL 35768, on Thursday, April 3, 2008. The meeting will convene at 1:30 p.m. and will continue until 4:30 p.m., and again at 7 p.m. and will continue until 10 p.m., as necessary. The meeting will be transcribed and will include the following: (1) An overview by the NRC staff of the NEPA environmental review process, the proposed scope of the EIS, and the proposed review schedule; (2) the opportunity for interested government agencies, organizations, and individuals to submit comments or suggestions on the environmental issues or the proposed scope of the EIS. Additionally, the NRC staff will host informal discussions for one hour prior to the start of each public meeting. No formal comments on the proposed scope of the EIS will be accepted during the informal discussions. To be considered, comments must be provided either at the transcribed public meeting or in writing, as discussed below. Persons may register to attend or present oral comments at the meeting on the NEPA scoping process by contacting Ms. Mallecia Hood by telephone at 1-800-368-5642, extension 0673 or by e-mail to the NRC at Bellefonte.COLEIS@nrc.gov, no later than March 27, 2008. Members of the public may also register to speak at the meeting prior to the start of the session. Individual oral comments may be limited by the time available, depending on the number of persons who register. Members of the public who have not registered may also have an opportunity to speak, if time permits. If special equipment or accommodations are needed to attend or present information at the public meeting, the need should be brought to Ms. Hood's attention no later than March 18, 2008, so that the NRC staff can determine whether the request can be accommodated.

Members of the public may send written comments on the environmental scoping process for the EIS to the Chief, Rules and Directives Branch, Division of Administrative Services, Office of Administration, Mailstop T-6D59, U.S. Nuclear Regulatory Commission, Washington, DC 20555-0001, and should cite the publication date and page number of this Federal Register notice. Comments may be hand-delivered to the NRC at 11545 Rockville Pike, Rockville, Maryland, between 7:30 a.m. and 4:15 p.m. on federal workdays. To be considered in the scoping process, written comments must be postmarked or delivered by April 25, 2008. Electronic comments may be sent by e-mail to the NRC at Bellefonte.COLEIS@nrc.gov. Electronic submissions must be sent no later than April 25, 2008, to be considered in the scoping process. Comments will be available electronically and will be accessible through the NRC's Electronic Reading Room link http://www.nrc.gov/reading-rm/adams.html at the NRC Homepage.

Participation in the scoping process for the EIS does not entitle participants to become parties to the proceeding to which the EIS relates. Notice of a hearing regarding the application for COLs was the subject of the aforementioned Federal Register notice (73 FR 7611).

At the conclusion of the scoping process, the NRC will prepare a concise summary of the determination and conclusions reached regarding submitted comments including the significant issues identified and will send a copy of the summary to each participant in the scoping process. The summary will also be available for inspection through the Electronic Reading Room link. The staff will then prepare and issue for comment the draft EIS, which will be the subject of separate notices and a separate public meeting. Copies will be available for public inspection at the above-mentioned addresses and one copy per request will be provided free of charge. After receipt and consideration of the comments, the NRC will prepare a final EIS, which will also be available for public inspection.

Information about the proposed action, the EIS, and the scoping process may be obtained from Ms. Mallecia Hood at 301-415-0673 or by e-mail at mah2@nrc.gov.

Dated at Rockville, Maryland, this 14th day of February, 2008.
For the Nuclear Regulatory Commission.
James E. Lyons,
Director, Division of Site and Environmental Reviews, Office of New Reactors.

[FR Doc. E8-3212 Filed 2-20-08; 8:45 am]

BILLING CODE 7590-01-P